DEPARTMENT OF LABOR

Office of the Secretary

Notice of Intent To Fund the Foundation for Peace and Democracy (FUNPADEM)

AGENCY: Bureau of International Labor Affairs, U.S. Department of Labor.

ACTION: Notice of Intent to award up to a total of $7 million to the Foundation for Peace and Democracy (FUNPADEM) to implement a program to support government, worker, and employer initiatives to strengthen compliance with national labor laws in Central America and the Dominican Republic (Guatemala, Honduras, El Salvador, Nicaragua, and the Dominican Republic).

SUMMARY: The free trade agreement between the United States and the CAFTA-DR countries establishes a commitment to effectively enforce domestic labor laws. This project will assist CAFTA-DR countries to develop and implement measures to improve compliance with their national labor laws. The project will build on work currently being carried out by FUNPADEM under the existing cooperative agreement number E-9-K-3-0097 with the Department of Labor, which was awarded through a competitive process in 2003 (SGA 03-20, Vol. 68, No. 139 of the Federal Register on July 21, 2003). Utilizing FUNPADEM eliminates unnecessary costs, project duplication, and inconsistencies that would occur with a new implementer. The new funds will allow FUNPADEM to develop new activities and to extend activities currently under way at the national level to additional geographic regions within each country. The activities that FUNPADEM will extend and develop include:

• Develop and implement inspection and mediation case management systems;

• Improve inspection procedures and training for labor inspectors;

• Implement public awareness campaigns and training for workers and employers about labor laws and standards;

• Strengthen mediation centers and training for labor mediators; and

• Provide equipment such as computers and vehicles.

In addition, a specific gender component will be developed and incorporated into the work described above. The component will focus on reducing discrimination against women and sexual harassment in the maquila sector through public awareness, training for workers and employers, and the development or strengthening of gender offices within the Ministries of Labor.

FOR FURTHER INFORMATION CONTACT Lisa Harvey, Harvey.Lisa@dol.gov, (202) 693-4750. U.S. Department of Labor, Office of the Assistant Secretary, 200 Constitution Ave., NW., Washington, DC 20210.

Dated: April 5, 2006.
Lisa Harvey,
Grant Officer.

[FR Doc. E6-5514 Filed 4-12-06; 8:45 am]

BILLING CODE 4510-28-P